DEPARTMENT OF HOMELAND SECURITY

Federal Emergency Management Agency

[Docket ID FEMA-2009-0001]

Agency Information Collection Activities: Submission for OMB Review; Comment Request, OMB No. 1660-0085

AGENCY: Federal Emergency Management Agency, DHS.

ACTION: Notice; 30-day notice and request for comments; revision of a currently approved information collection; OMB No. 1660-0085; FEMA Form 003-0-1 (formerly 90-146), Immediate Services Program Application.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before November 25, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections@dhs.gov.

SUPPLEMENTARY INFORMATION:

Collection of Information

Title: Crisis Counseling Assistance and Training Program—Immediate Services Program.

Type of information collection: Revision of a currently approved information collection.

OMB Number: 1660-0085.

Form Titles and Numbers: FEMA Form 003-0-1 (formerly 90-146), Immediate Services Program Application. Please note the form number was not indicated on the 60-day Federal Register Notice (74 FR 34768, July 17, 2009), as the new form number had not been assigned at that time.

Abstract: The Crisis Counseling Program includes a specific disaster program entitled Immediate Services Program (ISP). The Immediate Services Program provides for funding in response to a State request for the period immediately following a Presidentially-declared disaster, and includes community outreach, consultation and public education, and counseling techniques. State Disaster Mental Health Coordinators will provide this information for consideration of funding to provide such services.

Affected Public: State, Local or Tribal Government.

Estimated Number of Respondents: 15.

Frequency of Response: Once.

Estimated Average Hour Burden per Respondent: 82 Hours.

Estimated Total Annual Burden Hours: 1,230 Hours.

Estimated Cost: There is no annual reporting and recordkeeping cost associated with this collection.

Daisy Mitchell,
Acting Director, Records Management Division, Office of Management, Federal Emergency Management Agency, Department of Homeland Security.

[FR Doc. E9-25631 Filed 10-23-09; 8:45 am]

BILLING CODE 9111-23-P